DEPARTMENT OF VETERANS AFFAIRS

Veterans' Rural Health Advisory Committee, Notice of Meeting

The Department of Veterans Affairs (VA) gives notice under the Federal Advisory Committee Act that the Veterans' Rural Health Advisory Committee will hold a teleconference meeting Monday, September 20, through Wednesday, September 22, 2021. The Zoom meeting link is https://zoom.us/j/97205365400, the teleconference phone number is 1-646-558-8656, and the Meeting ID is 972 0536 5400. The meeting will begin each day at 11:00 a.m. to 2:30 p.m. (EST). The meetings are open to the public.

The purpose of the Committee is to advise the Secretary of Veterans Affairs on rural health care issues affecting Veterans. The Committee examines programs and policies that impact the delivery of VA rural health care to Veterans and discusses ways to improve and enhance VA access to rural health care services for Veterans.

The agenda will include updates from Department leadership, the Executive Director Office of the VA Office of Rural Health, and the Committee Chair; as well as presentations by subject-matter experts on general rural health care access.

Public comments will be received at 3:00 p.m. on September 22, 2021. Interested parties should contact Ms. Judy Bowie, Management Analyst, via email at VRHAC@va.gov, or by mail at 810 Vermont Avenue NW (12POP7), Washington, DC 20420. Individuals wishing to speak are invited to submit a 1-2-page summary of their comment for inclusion in the official meeting record. Any member of the public seeking additional information should contact Ms. Bowie at the phone number or email address noted above.

Dated: August 27, 2021.
LaTonya L. Small,
Federal Advisory Committee Management Officer.

[FR Doc. 2021-18879 Filed 8-31-21; 8:45 am]

BILLING CODE 8320-01-P